DEPARTMENT OF TRANSPORTATION

Federal Aviation Administration

Advisory Circulars (AC) 91-60A, 120-XX, and 91-56B; Extension of Comment Period to Notices of Availability

AGENCY: Federal Aviation Administration (FAA), DOT.

ACTION: Notice of availability and request for comments; extension of comment period.

SUMMARY: This action extends the comment period for proposed advisory circulars 91-60A, 120-XX, and 91-56B. The extension is a result of a joint request received from the Air Transport Association (ATA) and the Regional Airline Association (RAA). The FAA published previous notices of availability in the Federal Register on December 6, 2002.

DATES: Comments must be received by May 5, 2003.

ADDRESSEES: Send all comments on the proposed ACs to: Frederick Sobeck, AFS-304, Aging Airplane Program Manager, Flight Standards Service, Federal Aviation Administration, 800 Independence Avenue SW., Washington, DC 20591; telephone number: (202) 267-7355.

FOR FURTHER INFORMATION CONTACT: Frederick Sobeck, AFS-304, Aging Airplane Program Manager, Flight Standards Service, Federal Aviation Administration, 800 Independence Avenue SW., Washington, DC 20591; telephone number: (202) 267-7355.

SUPPLEMENTARY INFORMATION:

Comments Invited

Anyone with an interest may obtain a copy of these draft ACs by accessing the FAA's Web page at http://www.faa.gov/avr/arm/nprm. cfm? nav=nprm or http://faa.gov/avr/afs/acs/ac-idx.htm. The FAA invites interested parties to present comments on the proposed ACs. Those sending comments must specifically identify the AC to which the comments apply (i.e., AC 91-60A, 120-XX, or 91-56B). Comments should be sent to the address given above. The FAA will consider all communications received by the closing date for comments before issuing the final ACs.

Discussion

By letter dated January 9, 2003, ATA and RAA asked for a 3-month extension of the comment period for the interim final rule, Aging Airplane Safety, Docket No. FAA-1999-5401. They also requested the same consideration be given to the associated ACs.

In that final rule, the FAA requires airplanes operated under Title 14, Code of Federal Regulations (14 CFR) part 121, U.S.-registered multiengine airplanes operated under 14 CFR part 129, and multiengine airplanes used in scheduled operations under 14 CFR part 135 to undergo inspections and records reviews by the Administrator or a designated representative. This is to occur after the airplane's 14th year in service and at named intervals thereafter. The three ACs cited provide the industry with valuable compliance information.

In their joint petition, ATA and RAA state that industry needs more time to address the undefined, complex, and far-reaching maintenance and inspection issues.

Extension of Comment Period

In accordance with § 11.47(c) of Title 14, Code of Federal Regulations, the FAA has reviewed the petition filed by ATA and RAA for extension of the comment period. The FAA finds that extension of the comment period is consistent with the public interest, and that good cause exists for taking this action. These petitioners have a substantive interest in proposed ACs 91-60A, 120-XX, and 91-56B and have good cause for the extension.

Therefore, the FAA has extended the comment period for the referenced ACs until May 5, 2003.

Issued in Washington, DC on January 31, 2003.
Louis C. Cusimano,
Deputy Director, Flight Standards Service.

[FR Doc. 03-2680 Filed 1-31-03; 1:58 pm]

BILLING CODE 4910-13-P